DEPARTMENT OF EDUCATION

National Institute on Disability and Rehabilitation Research (NIDRR)—Disability and Rehabilitation Research Projects and Centers Program—Disability Rehabilitation Research Project (DRRP)—Center on Knowledge Translation (KT) for Employment Research (Center)

Catalog of Federal Domestic Assistance (CFDA) Number: 84.133A-5.

AGENCY: Office of Special Education and Rehabilitative Services, Department of Education.

ACTION: Notice of proposed priority for a DRRP.

SUMMARY: The Assistant Secretary for Special Education and Rehabilitative Services proposes a priority for the Disability and Rehabilitation Research Projects and Centers Program administered by NIDRR. Specifically, this notice proposes a priority for a DRRP. The Assistant Secretary may use this priority for a competition in fiscal year (FY) 2010 and later years. We take this action to focus research attention on areas of national need. We intend this priority to improve rehabilitation services and outcomes for individuals with disabilities.

DATES: We must receive your comments on or before June 16, 2010.

ADDRESSES: Address all comments about this notice to Lynn Medley, U.S. Department of Education, 400 Maryland Avenue, SW., Room 5140, Potomac Center Plaza (PCP), Washington, DC 20202-2700.

If you prefer to send your comments by e-mail, use the following address: Lynn.Medley@ed.gov. You must include the term “Proposed Priority for a DRRP on KT for Employment Research Findings” in the subject line of your electronic message.

FOR FURTHER INFORMATION CONTACT: Lynn Medley. Telephone: (202) 245-7338 or by e-mail: Lynn.Medley@ed.gov.

If you use a telecommunications device for the deaf (TDD), call the Federal Relay Service (FRS), toll free, at 1-800-877-8339.

SUPPLEMENTARY INFORMATION: This notice of proposed priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Invitation to Comment:

We invite you to submit comments regarding this notice. To ensure that your comments have maximum effect in developing the notice of final priority, we urge you to identify clearly the specific topic that each comment addresses.

We invite you to assist us in complying with the specific requirements of Executive Order 12866 and its overall requirement of reducing regulatory burden that might result from this proposed priority. Please let us know of any further ways we could reduce potential costs or increase potential benefits while preserving the effective and efficient administration of the program.

During and after the comment period, you may inspect all public comments about this notice in Room 5142, 550 12th Street, SW., PCP, Washington, DC, between the hours of 8:30 a.m. and 4:00 p.m., Washington, DC, time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended.

DRRP Program

The purpose of the DRRP program is to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: research, training, demonstration, development, dissemination, utilization, and technical assistance. An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Projects (DRRP) Requirements priority that it published in a notice of final priorities in the Federal Register on April 28, 2006 (71 FR 25472).

Additional information on the DRRP program can be found at: http://www.ed.gov/rschstat/research/pubs/res-program.html#DRRP.

Program Authority: 29 U.S.C. 762(g) and 764(a).

Applicable Program Regulations: 34 CFR part 350.

Proposed Priority:

This notice contains one proposed priority.

Center on Knowledge Translation (KT) for Employment Research Findings (Center).

Background:

The employment rate for individuals with disabilities is substantially lower than the rate for individuals without disabilities: 18.6 percent versus 63.3 percent, respectively, as of December 2009 (U.S. Department of Labor, 2009). This disparity in employment rates is across all age groups and for both men and women (U.S. Department of Labor, 2009).

To improve the employment outcomes for individuals with disabilities, employers, policy makers, vocational rehabilitation (VR) practitioners, individuals with disabilities, and other stakeholders need to make use of the best available research to inform practice and policy. With the notable exception of a body of experimental research that demonstrates the effectiveness of one model practice, the Individual Placement and Support model of supported employment for individuals with psychiatric disabilities (Bond, 2004; Loprest, 2007), many findings from research related to improving the employment outcomes of individuals with disabilities are preliminary in nature. Findings from preliminary, non-experimental research can, however, appropriately be used to guide further research, provide preliminary knowledge about a problem in the field, or direct resources and services to groups of individuals with the greatest needs.

NIDRR has adopted the conceptual framework of KT to help guide its effort to promote the effective use of research findings. KT in the NIDRR context refers to a multidimensional, active process of ensuring that new knowledge and products gained via research and development reach practitioners, employers, policy makers, and individuals with disabilities; are understood by these audiences; and are used to improve the employment outcomes and participation of individuals with disabilities in society. KT encompasses all steps from the creation of new knowledge to the synthesis, dissemination, and implementation of such knowledge (Canadian Institutes of Health Research, 2004), and is built upon continuing interactions and partnerships within and between different groups of knowledge creators and users. Knowledge synthesis is an important step within the KT process because it provides an understanding of a topic based on an integration of the relevant body of knowledge rather than a single research study.

Research findings related to improving employment outcomes of individuals with disabilities have not been extensively and systematically examined. Appraising and synthesizing this research can inform practice by providing practitioners information that can facilitate their use of currently available research findings and help them distinguish between promising practices and proven interventions. Effective research syntheses package information in ways that can be understood and used appropriately by different audiences and end users, and educate users about the strengths or limitations of specific findings. The identification of the best available research will also help highlight critical research gaps.

While research investigating effective KT methods and strategies has been conducted in other contexts such as public health and healthcare (Fixsen, Naoom, Blase, Friedman, & Wallace, 2005; Metcalfe et al., 2001; Milner, Estabrooks, & Humphrey, 2005; Peterson, Rogers, Cunningham-Sabo, & Davis, 2007; Van Duyn et al., 2007), there has been no previous research investigating effective approaches for identifying and promoting the use of research related to employment of individuals with disabilities. Determining which approaches and strategies are effective will be useful in ensuring that employment-related knowledge is incorporated into practice by individuals with disabilities, policy makers, employers, and VR practitioners.

References:

Bond, G. (2004). Supported Employment: Evidence for an Evidence-Based Practice. Psychiatric Rehabilitation Journal, 27(4), 345-359.

Canadian Institutes of Health Research. (2004). Knowledge translation strategy 2004-2009: Innovation in action. See http://www.cihr-irsc.gc.ca/e/26574.html.

Fixsen, D.L., Naoom, S.F., Blase, K.A., Friedman, R.M., & Wallace, F. (2005). Implementation Research: A Synthesis of the Literature. Tampa, FL: University of South Florida, Louis de la Parte Florida Mental Health Institute, The National Implementation Research Network (FMHI Publication #231).

Loprest, P. (2007). Strategic assessment of the state of the science in research on employment for individuals with disabilities. Washington, DC: The Urban Institute.

Metcalfe, C., Lewin, R., Wisher, S., Perry, S., Bannigan, K., & Moffett, J.K. (2001). Barriers to implementing the evidence base in four NHS therapies: dietitians, occupational therapists, physiotherapists, and speech and language therapists. Physiotherapy, 87(8), 433-441.

Milner, F.M., Estabrooks, C.A., & Humphrey, C. (2005). Clinical nurse educators as agents for change: Increasing research utilization. International Journal of Nursing Studies, 42, 899-914.

Peterson, J.C., Rogers, E.M., Cunningham-Sabo, L., & Davis, S.M. (2007). A framework for research utilization applied to seven case studies. American Journal of Preventive Medicine, 33 (1S), S21-S34.

U.S. Department of Labor. (2009). Labor force statistics from the Current Population Survey: Employment status and disability status, December 2009. See http://www.bls.gov/cps/cpsdisability_122009.htm.

Van Duyn, M.A.S., McCrae, T., Wingrove, B.K., Henderson, K.M., Boyd, J.K., Kagawa-Singer, M., et al. (2007). Adapting evidence-based strategies to increase physical activity among African Americans, Hispanics, Hmong, and Native Hawaiians: A social marketing approach. Preventing Chronic Diseases, 4(4). See http://www.cdc.gov/pcd/issues/2007/oct/pdf/07_0025.pdf.

Proposed Priority:

The Assistant Secretary for Special Education and Rehabilitative Services proposes a priority for a Disability and Rehabilitation Research Project (DRRP) to serve as the Center on Knowledge Translation (KT) for Employment Research (Center). The purpose of the Center is to conduct systematic reviews of research findings to identify evidence-based practices and other information that can be used to improve employment outcomes for individuals with disabilities, to identify research gaps, and to investigate and promote effective strategies to increase the appropriate use of these findings. The Center must conduct rigorous and relevant research, development, technical assistance, dissemination, and utilization activities.

These activities must contribute to: (1) Improved knowledge of the state of research relevant to improving employment outcomes for individuals with disabilities; (2) improved knowledge of the findings from high-quality research; (3) identification of practices that are promising or proven to have been effective for specific purposes or target audiences; and (4) improved knowledge on the part of consumers and others not only of the research findings but of the strengths of the findings and the appropriate use of the research information. These outcomes will lead to the increased use of research-based knowledge related to improving employment outcomes for individuals with disabilities by the following user groups: Individuals with disabilities, employers, policy makers, and vocational rehabilitation (VR) practitioners. The Center must work in partnership with organizations representing these user groups. These user groups must be actively engaged in the planning, conduct, and evaluation of all project activities.

Under this priority, the Center must contribute to the following outcomes:

(a) Establishment of available employment-related knowledge that can be used to inform behavior, practices, or policies that improve employment outcomes of individuals with disabilities. The Center must contribute to this outcome by:

(1) Systematically reviewing existing research to identify findings that can be used by individuals with disabilities, employers, policy makers, and VR practitioners to improve the employment of individuals with disabilities. The Center must conduct systematic reviews of individual studies to assess their strengths and weaknesses; summarize findings; assess the appropriate uses of the findings; determine the relevance of the findings; and make the information publicly available. In so doing, the Center must take into account the types of research and stages of knowledge development (i.e., the type of research questions being addressed and the methods employed) in each area.

(2) Producing syntheses on topics, including promising and proven practices, for which the Center determines the research to be of sufficient quality and relevance pursuant to paragraph (a)(1) of this proposed priority. The Center must use standards and methods that are appropriate for the type of research, the stage of knowledge in the identified areas, and its intended use to categorize, evaluate, and synthesize the research findings identified in paragraph (a)(1) of this proposed priority.

(3) Suggesting priorities for a future research agenda based on the knowledge gaps discovered through the review of existing research findings in paragraph (a)(1) of this proposed priority.

(b) Establishment of effective approaches and strategies to promote the appropriate use of research findings on improving the employment of individuals with disabilities, by individuals with disabilities, employers, policy makers, and VR practitioners.

The Center must contribute to this outcome by:

(1) Conducting research on factors impeding and contributing to the use of research findings on employment of individuals with disabilities by individuals with disabilities, employers, policy makers, and VR practitioners.

(2) Identifying, selecting, refining, and testing approaches and strategies that can be used to promote the appropriate use of research findings on employment of individuals with disabilities by individuals with disabilities, employers, policy makers, and VR practitioners. These approaches and strategies must be refined and tested within each of the user groups. The Center must use at least one of the areas of the synthesized knowledge from paragraph (a)(2) of this proposed priority as a subject for further refinement and testing of KT approaches and strategies.

(c) Increased utilization of approaches and strategies determined to be effective under paragraph (b) of this proposed priority to promote the use of research findings on employment of individuals with disabilities.

The Center must contribute to this outcome by:

(1) Providing training and technical assistance to NIDRR-funded grantees in the employment area to facilitate the implementation and evaluation of these KT approaches and strategies.

(2) Coordinating KT research and development activities with existing NIDRR-funded KT and employment projects through consultation with NIDRR project officers.

(3) Using appropriate approaches and strategies established under paragraph (b) of this proposed priority to disseminate the synthesized knowledge established under paragraph (a) of this proposed priority to individuals with disabilities, employers, policy makers, and VR practitioners.

(4) Organizing and hosting a state-of-the-science conference by the end of the fourth project year.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final priority: We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this regulatory action.

The potential costs associated with this proposed regulatory action are those resulting from statutory requirements and those we have determined as necessary for administering this program effectively and efficiently.

In assessing the potential costs and benefits—both quantitative and qualitative—of this proposed regulatory action, we have determined that the benefits of the proposed priority justify the costs.

Discussion of costs and benefits:

The benefits of the Disability and Rehabilitation Research Projects and Centers Programs have been well established over the years in that similar projects have been completed successfully. This proposed priority will generate new knowledge through research, development, dissemination, utilization, and technical assistance projects that will enhance the lives of individuals with disabilities by improving their employment outcomes.

Intergovernmental Review: This program is not subject to Executive Order 12372 and the regulations in 34 CFR part 79.

Accessible Format: Individuals with disabilities can obtain this document in an accessible format (e.g., braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: May 12, 2010.
Alexa Posny,
Assistant Secretary for Special Education and Rehabilitative Services.

[FR Doc. 2010-11716 Filed 5-14-10; 8:45 am]

BILLING CODE 4000-01-P